FEDERAL COMMUNICATIONS COMMISSION

47 CFR Part 32

[CC Docket Nos. 00-199, 97-212, and 80-286; FCC 01-305]

2000 Biennial Regulatory Review—Comprehensive Review of the Accounting Requirements and ARMIS Reporting Requirements for Incumbent Local Exchange Carriers: Phase 2

AGENCY: Federal Communications Commission.

ACTION: Final rule; correction.

SUMMARY: On February 6, 2002, the Commission published a final rule document which consolidated and streamlined Class A accounting requirements; relaxed certain aspects of the affiliate transactions rules; significantly reduced the accounting and reporting rules for mid-sized carriers; and reduced the ARMIS reporting requirements for both large and mid-sized incumbent local exchange carriers (LECs). This document corrects that rule by redesignating the paragraphs of § 32.5200.

DATES: Effective February 28, 2002.

ADDRESSES: Federal Communications Commission, 445 12th Street, TW-A325, Washington, DC 20554.

FOR FURTHER INFORMATION CONTACT: Tim Peterson, Deputy Division Chief, Accounting Safeguards Division, Common Carrier Bureau, at (202) 418-1575 or Mika Savir, Accounting Safeguards Division, Common Carrier Bureau, Legal Branch, at (202) 418-0384. For additional information concerning the information collections in this document, contact Judy Boley at (202) 418-0214, or via the Internet at jboley@fcc.gov.

SUPPLEMENTARY INFORMATION: On February 6, 2001 the Federal Register published a summary of the Commission's Report and Order adopted October 11, 2001 and released November 5, 2001, along with final rules adopted by the Commission. In § 32.5200 of the final rules, paragraphs (j), (k), and (l) were incorrectly listed as (k), (l), and (m). This document corrects that error by redesignating those pargraphs as (j), (k), and (l).

The rule published on February 6, 2002 at 67 FR 5670, is corrected as follows:

On page 5693, in the third column, in § 32.5200, redesignate paragraphs (k), (l), and (m) as paragraphs (j), (k), and (l).

Federal Communications Commission.
William F. Caton,
Acting Secretary.

[FR Doc. 02-4861 Filed 2-27-02; 8:45 am]

BILLING CODE 6712-01-P